ENVIRONMENTAL PROTECTION AGENCY

40 CFR Part 63

[MN 67-01-7292(b); FRL-7249-1]

Approval of Section 112(l) Program of Delegation; Minnesota

AGENCY: Environmental Protection Agency (EPA).

ACTION: Proposed rule.

SUMMARY: In this document the EPA is proposing to approve a request from Minnesota for a partial delegation of the Federal air toxics program pursuant to section 112(l) of the Clean Air Act (Act). The State's mechanism of delegation involves the straight delegation of all existing and future section 112 standards unchanged from the Federal standards. The actual delegation of authority of individual standards, except standards addressed specifically in this action, will occur through a Memorandum of Agreement (MOA) between the Minnesota Pollution Control Agency (MPCA) and EPA. This request for approval of a mechanism of delegation encompasses only those sources subject to a section 112 standard and a requirement to obtain a part 70 operating permit.

In the final rules section of this Federal Register, EPA is approving the State's request as a direct final rule without prior proposal because EPA views this action as noncontroversial and anticipates no adverse comments. A detailed rationale for approving the State's request is set forth in the direct final rule. The direct final rule will become effective without further notice unless the Agency receives relevant adverse written comment. Should the Agency receive such comment, it will publish a document informing the public that the direct final rule will not take effect and such public comment(s) received will be addressed in a subsequent final rule based on this proposed rule. If no adverse written comments are received, the direct final rule will take effect on the date stated in that document and no further activity will be taken on this proposed rule. EPA does not plan to institute a second comment period on this action. Any parties interested in commenting on this document should do so at this time.

DATES: Written comments must be received on or before August 22, 2002.

ADDRESSES: Written comments should be sent to: Robert Miller, Chief, Permits and Grants Section, Air Programs Branch (AR-18J), U.S. Environmental Protection Agency, 77 West Jackson Boulevard, Chicago, Illinois 60604.

FOR FURTHER INFORMATION CONTACT: Bryan Holtrop at (312) 886-6204, holtrop.bryan@epa.gov or Rachel Rineheart at (312) 886-7017, rineheart.rachel@epa.gov.

SUPPLEMENTARY INFORMATION: For additional information see the direct final rule published in the rules section of this Federal Register. Copies of the documents relevant to this action are available for public inspection during normal business hours at the above address. (Please telephone Robert Miller at (312) 353-0396 before visiting the Region 5 Office.)

List of Subjects in 40 CFR Part 63

Environmental protection, Administrative practice and procedure, Air pollution control, Hazardous substances, Intergovernmental relations, Reporting and recordkeeping requirements.

Authority: 42 U.S.C. 7401, et seq.

Dated: June 27, 2002.
Bharat Mathur,
Acting Regional Administrator, Region 5.

[FR Doc. 02-18399 Filed 7-22-02; 8:45 am]

BILLING CODE 6560-50-P